DEPARTMENT OF AGRICULTURE

Forest Service

Fremont and Winema Resource Advisory Committee

AGENCY: Forest Service, USDA.

ACTION: Notice of meeting.

SUMMARY: The Fremont and Winema Resource Advisory Committee will meet in Klamath Falls Oregon, for the purpose of evaluating and recommending resource management projects for funding in 2007, under the provisions of Title II of the Secure Rural Schools and Community Self-Determination Act of 2000.

DATES: The meeting will be held on June 19, and 20, 2006.

ADDRESSES: The meeting on June 19, 2006 will take place at the Supervisor's Office in the large conference room located at 2819 Dahlia Street.

The meeting on June 20, 2006 will take place at the Shilo Inn in the Mount McLaughlin Room located at 2500 Almond St. Klamath Falls, Oregon.

Send written comments to Fremont and Winema Resource Advisory Committee, c/o USDA Forest Service, P.O. Box 67, Paisley, OR 97636, or electronically to agowan@fs.fed.us.

FOR FURTHER INFORMATION CONTACT: Amy Gowan, Designated Federal Official, c/o Klamath National Forest, 1312 Fairlane Road, Yreka, CA 96097, telephone (530) 841-4421.

SUPPLEMENTARY INFORMATION: The agenda will include a review of the status of a selection of the 2002-2006 projects recommended by the RAC, consideration of Title II project proposals for 2006 submitted by the Forest Service, the public, and other agencies, presentations by project proponents, and final recommendations for funding of fiscal year 2006 projects.

All Fremont and Winema Resource Advisory Committee meetings are open to the public. There will be a time for public input and comment. Interested citizens are encouraged to attend.

Dated: May 8, 2006.
Amy Gowan,
Designated Federal Official, Klamath and Lake Counties, OR., Fremont—Winema Resource Advisory Committee.

[FR Doc. 06-4667 Filed 5-19-06; 8:45 am]

BILLING CODE 3410-11-M